DEPARTMENT OF HEALTH AND HUMAN SERVICES

Centers for Disease Control and Prevention

[Program Announcement 04118]

Monitoring Atypical HIV Strains Among Persons Newly Diagnosed With HIV Using Dried Blood Spots vs. Diagnostic Sera; Notice of Availability of Funds-Amendment

A notice announcing the availability of fiscal year (FY) 2004 funds for cooperative agreements for Monitoring Atypical HIV Strains Among Persons Newly Diagnosed With HIV Using Dried Blood Spots vs. Diagnostic Sera was published in the Federal Register, Tuesday, April 20, 2004, Volume 69, Number 76, pages 21117-21121. The notice is amended as follows: This program has been cancelled.

Dated: April 28, 2004.
William P. Nichols,
Acting Director, Procurement and Grants Office, Centers for Disease Control And Prevention.

[FR Doc. 04-10168 Filed 5-4-04; 8:45 am]

BILLING CODE 4163-70-P